ENVIRONMENTAL PROTECTION AGENCY

[EPA-HQ-OPPT-2011-0744; FRL-8888-6]

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Chemical Substances Inventory (TSCA Inventory)) to notify EPA and comply with the statutory provisions pertaining to the manufacture of new chemicals. Under TSCA sections 5(d)(2) and 5(d)(3), EPA is required to publish in the Federal Register a notice of receipt of a premanufacture notice (PMN) or an application for a test marketing exemption (TME), and to publish in the Federal Register periodic status reports on the new chemicals under review and the receipt of notices of commencement (NOC) to manufacture those chemicals. This document, which covers the period from June 6, 2011 to July 1, 2011, and provides the required notice and status report, consists of the PMNs and TMEs, both pending or expired, and the NOC to manufacture a new chemical that the Agency has received under TSCA section 5 during this time period.

DATES: Comments identified by the specific PMN number or TME number, must be received on or before October 17, 2011.

ADDRESSES: Submit your comments, identified by docket identification (ID) number EPA-HQ-OPPT-2011-0744, and the specific PMN number or TME number for the chemical related to your comment, by one of the following methods:

• Federal eRulemaking Portal: http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO), EPA East Bldg., Rm. 6428, 1201 Constitution Ave., NW., Washington, DC. The DCO is open from 8 a.m. to 4 p.m., Monday through Friday, excluding legal holidays. The telephone number for the DCO is (202) 564-8930. Such deliveries are only accepted during the DCO's normal hours of operation, and special arrangements should be made for deliveries of boxed information.

Instructions: EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov Web site is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding legal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: For technical information contact: Bernice Mudd, Information Management Division (7407M), Office of Pollution Prevention and Toxics, Environmental Protection Agency, 1200 Pennsylvania Ave., NW., Washington, DC 20460-0001; telephone number: (202) 564-8951; fax number: (202) 564-8955; e-mail address: mudd.bernice@epa.gov.

For general information contact: The TSCA-Hotline, ABVI-Goodwill, 422 South Clinton Ave., Rochester, NY 14620; telephone number: (202) 554-1404; e-mail address: TSCA-Hotline@epa.gov.

SUPPLEMENTARY INFORMATION:

I. General Information

A. Does this action apply to me?

This action is directed to the public in general. As such, the Agency has not attempted to describe the specific entities that this action may apply to. Although others may be affected, this action applies directly to the submitter of the PMNs addressed in this action. If you have any questions regarding the applicability of this action to a particular entity, consult the person listed under FOR FURTHER INFORMATION CONTACT.

B. What should I consider as I prepare my comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Why is EPA taking this action?

EPA classifies a chemical substance as either an “existing” chemical or a “new” chemical. Any chemical substance that is not on EPA's TSCA Inventory is classified as a “new chemical,” while those that are on the TSCA Inventory are classified as an “existing chemical.” For more information about the TSCA Inventory go to: http://www.epa.gov/opptintr/newchems/pubs/inventory.htm. Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://ww.epa.gov/opt/newchems.

Under TSCA sections 5(d)(2) and 5(d)(3), EPA is required to publish in the Federal Register a notice of receipt of a PMN or an application for a TME and to publish in the Federal Register periodic status reports on the new chemicals under review and the receipt of NOCs to manufacture those chemicals. This status report, which covers the period from June 6, 2011 to July 1, 2011, consists of the PMNs and TMEs, both pending or expired, and the NOCs to manufacture a new chemical that the Agency has received under TSCA section 5 during this time period.

III. Receipt and Status Reports

In Table I. of this unit, EPA provides the following information (to the extent that such information is not claimed as CBI) on the PMNs received by EPA during this period: The EPA case number assigned to the PMN, the date the PMN was received by EPA, the projected end date for EPA's review of the PMN, the submitting manufacturer/importer, the potential uses identified by the manufacturer/importer in the PMN, and the chemical identity.

Table I—48 PMNs Received From June 6, 2011 to July 1, 2011
Case No. | Received date | Projected notice end date | Manufacturer/importer | Use | Chemical
P-11-0424 | 6/6/2011 | 9/3/2011 | CBI | (G) Monomer for polymer applications | (G) Alkenoyloxy arylphenone.
P-11-0431 | 6/6/2011 | 9/3/2011 | Cytec Industries Inc | (G) Coatings resin | (G) Poly[oxyalkylenediyl], .alpha.-hydro-.omega.-hydroxy-, polymer with disubstituted carbomonocycle, alkyl acrylate blocked.
P-11-0432 | 6/6/2011 | 9/3/2011 | Hybrid Plastics, Inc | (G) 1. Themoplastics and coatings additive; 2. Elastomer additive | (S) Tricyclo[7.3.3.15, 11]heptasiloxane-3,7,14-triol, 1,3,5,7,9,11,14-heptaisooctyl-stereoisomer.
P-11-0433 | 6/7/2011 | 9/4/2011 | CBI | (G) For use in cleaning detergents | (G) Substituted amino polymer, with substituted amine salt and salted acrylate.
P-11-0434 | 6/8/2011 | 9/5/2011 | CBI | (S) Curing agent for epoxy resin | (G) Cashew, nutshell liq., polymer with arylalkylamine, bisphenol a, epichlorohydrin and formaldehyde.
P-11-0435 | 6/9/2011 | 9/6/2011 | CBI | (G) Chemical intermediate | (G) Alkoxylated amine derivative.
P-11-0436 | 6/9/2011 | 9/6/2011 | CBI | (G) Chemical intermediate | (G) Polyether sulfate salt derivative.
P-11-0437 | 6/9/2011 | 9/6/2011 | CBI | (G) Polymeric colorant | (G) Substituted anthraquinone colorant.
P-11-0438 | 6/9/2011 | 9/6/2011 | CBI | (G) Colorant for polyurethane | (G) Polyester substituted antraquinone colorant.
P-11-0439 | 6/10/2011 | 9/7/2011 | SCNTE LLC | (G) The material will be used as the sensor element in an electrochemical sensor. One carbon nanotube-sic device will be use per one sensor. The maximum estimated annual quantity of sensors will be 10,000. This completed sensor will be able to detect metals and nutrients in water | (S) Carbide derived nancarbon.
P-11-0440 | 6/13/2011 | 9/10/2011 | CBI | (G) Polymeric film former for coatings | (G) Fatty acids, dimers, polymers with aliphatic acrylate, aliphatic methacrylate, dihydrocarboxylic acids, hydroxyl terminated polyalkene, cycloaliphatic diisocyanate, aromatic dicarboxylic acid, aliphatic polyether diol, and aliphatic diol.
P-11-0441 | 6/13/2011 | 9/10/2011 | CBI | (G) Destructive use | (G) Magnesium supported titanium.
P-11-0442 | 6/14/2011 | 9/11/2011 | CBI | (G) Chemical intermediate | (G) Polyether amine derivative.
P-11-0443 | 6/15/2011 | 9/12/2011 | CBI | (G) Additive for manufacture of articles | (G) Modified starch acrylate polymer.
P-11-0444 | 6/16/2011 | 9/13/2011 | Evonik Goldschmidt Corp | (S) Industrial adhesive | (S) Hexadecanoic acid, eicosyl ester.
P-11-0445 | 6/19/2011 | 9/16/2011 | CBI | (G) Additive for textile finishing | (G) Polyalkyacrylate copolymer.
P-11-0446 | 6/20/2011 | 9/17/2011 | DIC International (USA) LLC | (G) Colorant for industrial coatings | (G) Carbopolycycle-bis(diazonium), dihalo, chloride (1:2), reaction products with metal sulfate, calcium carbonate, N-(2-alkylphenyl)-oxoalkanamide, potassium 4-[dioxoalkylamino]substituted benzene (1:1) and sodium hydroxide.
P-11-0447 | 6/21/2011 | 9/18/2011 | Huntsman Corporation | (S) Gas treatment product to remove hydrogen sulfide from natural gas | (G) Polyetheramine.
P-11-0448 | 6/21/2011 | 9/18/2011 | GE Water & Process technologies | (S) Heavy metal precipitant for wastewater | (G) Sodium polyethylenimine dithiocarbamate, polymeric dithiocarbamate.
P-11-0449 | 6/21/2011 | 9/18/2011 | CBI | (S) Resin for wood coatings | (S) Glycerides, C16-18 and C18 unsaturated mono-and di-, polymers with a-[[[5-[[bis(2-hydroxyethyl)amino]carbonyl]amino]-2 (or 4)-methylphenyl]amino]carbonyl]—W-methoxypoly(oxy-1,2-ethanediyl), bisphenol a-epichlorohydrin polymer linoleate, hydrazine, 3-hydroxy-2-(hydroxymethyl)-2-methylpropanoic acid, 5-isocyanato-1- (isocyanatomethyl)-1,3,3-trimethylcyclohexane and 1,1′-methylenebis [4-isocyantocyclohexane], compds, with trie thylamine*.
P-11-0450 | 6/21/2011 | 9/18/2011 | CBI | (G) Additive for paper coatings | (G) Fatty acids of natural waxes.
P-11-0451 | 6/21/2011 | 9/18/2011 | CBI | (G) Additive for paper coatings | (G) Fatty acids of natural waxes, 1,3 butylene glycol esters, part. saponified.
P-11-0452 | 6/21/2011 | 9/18/2011 | CBI | (G) Additive for paper coatings | (G) Fatty acids of natural waxes, ethylene esters.
P-11-0453 | 6/22/2011 | 9/19/2011 | 3M Company | (S) Moisture curing hot melt adhesive | (G) Polyurethane prepolymer.
P-11-0454 | 6/23/2011 | 9/20/2011 | CBI | (G) Resin for automotive coatings | (G) Thermoset acrylic polymer.
P-11-0455 | 6/23/2011 | 9/20/2011 | CBI | (G) Resin for automotive coatings | (G) Thermoset acrylic polymer.
P-11-0456 | 6/23/2011 | 9/20/2011 | CBI | (G) Resin for automotive coatings | (G) Thermoset acrylic polymer.
P-11-0457 | 6/23/2011 | 9/20/2011 | CBI | (G) Resin for automotive coatings | (G) Thermoset acrylic polymer.
P-11-0458 | 6/23/2011 | 9/20/2011 | CBI | (G) Resin for automotive coatings | (G) Thermoset acrylic polymer.
P-11-0459 | 6/23/2011 | 9/20/2011 | CBI | (G) Resin for automotive coatings | (G) Thermoset acrylic polymer.
P-11-0460 | 6/27/2011 | 9/24/2011 | CBI | (G) Coatings additive, open-non dispersive use | (G) Borate ester of hydroxyethylmethacrylate.
P-11-0461 | 6/27/2011 | 9/24/2011 | CBI | (G) Coatings additive, open-non dispersive use | (G) Borate ester of hydroxyethylmethacrylate.
P-11-0462 | 6/27/2011 | 9/24/2011 | CBI | (G) Coatings additive, open-non dispersive use | (G) Borate ester of hydroxyethylmethacrylate.
P-11-0463 | 6/27/2011 | 9/24/2011 | Zeon Chemicals L.P | (S) Lithium ion battery manufacture | (G) Modified acrylate polymer.
P-11-0464 | 6/28/2011 | 9/25/2011 | CBI | (G) Water soluble polyamine curing agent for epoxy coatings | (S) Phenol, 4,4′-(1-methylethylidene)bis-, polymer with 5-amino-1,3,3-trimethylcyclohexanemethanamine, N1,N2-bis(2-aminoethyl)-1,2-ethanediamine, 2-(chloromethyl)oxirane, .alpha.-hydro-.omega.-hydroxypoly[oxy(methyl-1,2-ethanediyl)], 2,2′-[(1-methylethylidene)bis(4,1-phenyleneoxymethylene)]bis[oxirane] and .alpha.-(2-oxiranylmethyl)-.omega.-(2-oxiranylmethoxy)poly[oxy(methyl-1,2-ethanediyl)], reaction products with 2-[[4-(11-dimethylethyl)phenoxy]methyl]oxirane*.
P-11-0465 | 6/28/2011 | 9/25/2011 | Dow Chemical Company | (S) Component rigid polyurethane foam for appliances | (G) Benzene dicarboxylic acid, polyesters with glycols and polyether polyol.
P-11-0466 | 6/29/2011 | 9/26/2011 | CBI | (G) Chemical intermediate | (G) Alkoxylated amine derivative.
P-11-0467 | 6/29/2011 | 9/26/2011 | CBI | (G) Chemical intermediate | (G) Polyether sulfate salt derivative.
P-11-0468 | 6/29/2011 | 9/26/2011 | CBI | (G) Chemical intermediate | (G) Polyether amine derivative.
P-11-0469 | 6/29/2011 | 9/26/2011 | CBI | (G) Polymeric colorant | (G) Polycyclic aromatic colorant.
P-11-0470 | 6/29/2011 | 9/26/2011 | CBI | (G) Colorant for polymer articles | (G) Polyester substituted polycyclic aromatic colorant.
P-11-0471 | 6/29/2011 | 9/26/2011 | OM Group, Inc | (G) Production of energy storage devices | (S) Manganese hydroxide oxide*.
P-11-0472 | 6/29/2011 | 9/26/2011 | OM Group, Inc | (G) Production of energy storage devices | (S) Manganese hydroxide*.
P-11-0473 | 6/30/2011 | 9/27/2011 | Omnova Solutions Inc | (S) Surfactant for the flow, leveling and wetting of aqueous coating formulations; surfactant for use in ink formulaitons for high resolutions ink jet printers | (S) Boron, trifluoro(tetrahydrofuran)-, (T-4)-, polymer with .alpha.-hydro-.omega.-hydroxypoly(oxy-1,2-ethanediyl) and 3-methyl-3-[(2,2,3,3,3-pentafluoropropoxy)methyl]oxetane*.
P-11-0474 | 6/30/2011 | 9/27/2011 | Omnova Solutions Inc | (S) Surfactant for the flow, leveling and wetting of aqueous coating formulations; surfactant for use in ink formulaitons for high resolutions ink jet printers | (S) Boron, trifluoro (tetrahydrofuran)-, (T-4)-, polymer with methyloxirane, 3-methyl-3-[(2,2,3,3,3-pentapropoxy)methyl]oxetane, oxirane and tetrahydrofuran*.
P-11-0475 | 6/30/2011 | 9/27/2011 | CBI | (G) Agent used in motor coil | (G) Alkylidene bisphenol, polymer with 2-(chloromethyl)oxirane, alkyl-oxo-2-propen-1-yl)oxy]alkyl 4-cycloalkene-1,2-dicarboxylate.
P-11-0476 | 6/30/2011 | 9/27/2011 | E.I. Dupont de Nemours and Company | (G) Extrusion and molding resin | (G) Dicarboxylic acid, compound with 1,6-hexanediamine alkyldioate, homopolymer.
P-11-0477 | 6/30/2011 | 9/27/2011 | E.I. Dupont de Nemours and Company | (G) Extrusion and molding resin | (G) Dicarboxylic acid, compound with 1,6-hexanediamine alkyldioate, homopolymer.

In Table II. of this unit, EPA provides the following information (to the extent that such information is not claimed as CBI) on the TMEs received by EPA during this period: The EPA case number assigned to the TME, the date the TME was received by EPA, the projected end date for EPA's review of the TME, the submitting manufacturer/importer, the potential uses identified by the manufacturer/importer in the TME, and the chemical identity.

Table II—1 TME Received From June 6, 2011 to July 1, 2011
Case No. | Received date | Projected notice end date | Manufacturer/importer | Use | Chemical
T-11-0010 | 6/6/2011 | 7/20/2011 | Cytec industries inc | (G) Coatings resin | (G) Poly[oxyalkylenediyl], .alpha.-hydro-.omega.-hydroxy-, polymer with disubstituted carbomonocycle, alkyl acrylate blocked.

In Table III. of this unit, EPA provides the following information (to the extent that such information is not claimed as CBI) on the NOCs received by EPA during this period: The EPA case number assigned to the NOC, the date the NOC was received by EPA, the projected end date for EPA's review of the NOC, and chemical identity.

Table III—26 NOCs Received From June 6, 2011 to July 1, 2011
Case No. | Received date | Commencement notice end date | Chemical
P-01-0491 | 6/17/2011 | 6/6/2011 | (G) Hydroxy urethane.
P-04-0853 | 6/7/2011 | 11/22/2005 | (G) Aluminum salt of a quinacridone derivative.
P-09-0336 | 6/22/2011 | 5/25/2011 | (G) Alkyl dioic acid polymer with alkyl diol, .alpha.-hydro-.omega.-hydroxypoly(oxy-alkyldiyl), aromatic isocyanate, alkyl diol.
P-10-0367 | 6/16/2011 | 5/18/2011 | (G) Carbon black derived from the pyrolysis of rubber tire shreds.
P-10-0470 | 6/23/2011 | 6/20/2011 | (G) Fluoro modified, polyether modified and alkyl modified polymethylsiloxane.
P-10-0508 | 6/23/2011 | 5/27/2011 | (G) Mixed mono and di carboxylic acids.
P-10-0575 | 6/29/2011 | 6/10/2011 | (G) Methacrylic acid polymer with isoalkylmethacrylamide, arylmethacrylate, and alkenylmethacrylate.
P-11-0021 | 6/29/2011 | 3/25/2011 | (S) 2-propenoic acid, 2-methyl-, dodecyl ester, polymer with 2-hydroxyethyl 2-methyl-2-propenoate, rel-(1r,2r,4r)-1,7,7-trimethylbicyclo[2.2.1]hept-2-yl 2-methyl-2-propenoate and rel-(1r,2r,4r)1,7,7-trimethylbicyclo[2.2.1]hept-2-yl 2-propenoate, tert-bu peroxide-initiated*.
P-11-0022 | 6/29/2011 | 3/25/2011 | (S) 2-propenoic acid, 2-methyl-, 2-hydroxyethyl ester, polymer with rel-(1r,2r,4r)-1,7,7-trimethylbicyclo[2.2.1]hept-2-yl 2-methyl-2-propenoate and rel-(1r,2r,4r)—1,7,7-trimethylbicyclo[2.2.1]hept-2-yl 2-propenoate.
P-11-0039 | 6/27/2011 | 6/24/2011 | (G) Silsesquioxanes, polyacrylate.
P-11-0076 | 7/1/2011 | 6/28/2011 | (G) Polyurethane derivative.
P-11-0077 | 6/21/2011 | 6/20/2011 | (G) Benzenedicarboxylic acid, polymer with 1,4-butanediol, (2e)-2-butenedioic acid, decanedioic acid, ethenylbenzene, 2-ethylhexyl 2-propenoate, hexanedioic acid, 1,6-hexane derivatives and 2-propenoic acid, tert-bu peroxide-initiated.
P-11-0098 | 6/13/2011 | 6/9/2011 | (S) Phenol, 2-[1-[[3-(1h-imidazol-1-yl)propyl]imino]ethyl]-*.
P-11-0118 | 6/6/2011 | 5/6/2011 | (G) Methyl alkene ester of benzoic acid.
P-11-0147 | 6/6/2011 | 5/18/2011 | (G) Ultraviolet-curablepolyester polyurethane acrylate.
P-11-0189 | 6/15/2011 | 5/24/2011 | (S) Acetic acid, 2,2'-dithiobis-' diammonium salt.
P-11-0191 | 6/6/2011 | 5/18/2011 | (G) Ultraviolet-curable polyester polyurethane acrylate.
P-11-0205 | 6/29/2011 | 6/10/2011 | (G) Polyalkene, maleated potassium salts.
P-11-0206 | 6/29/2011 | 5/24/2011 | (G) Bisaryl iodonium salt.
P-11-0207 | 6/29/2011 | 5/29/2011 | (G) Substituted aromatic borate salt.
P-11-0225 | 6/6/2011 | 6/3/2011 | (S) Amines, C36-alkylenedi-, polymers with 6-aminohexanoic acid, 1,6-diisocyanato-2,2,4-trimethylhexane, 1,6-diisocyanato-2,4,4-trimethylhexane, 5,5'-[(1-methylethylidene)bis(4,1-phenyleneoxy)]bis[1,3-isobenzofurandione] and pyromellitic dianhydride, 2,5-dihydro-2,5-dioxo-1H-pyrrole-1-hexanoic acid-blocked.
P-11-0228 | 6/7/2011 | 6/6/2011 | (G) Benzaldehyde, reaction products with polyalkylenepolyamines, hydrogenated.
P-11-0237 | 6/15/2011 | 6/14/2011 | (S) D-glucopyranose, oligomeric, decyl octyl glycosides, polymer with 1,3-dichloro-2-propanol and sorbitan mono-(9z)-9-octadecenoate.
P-11-0248 | 6/21/2011 | 6/20/2011 | (G) Roin, polymer with ethylene glycol, propanediol, alkanedicarboxylic acid, terephthalic acid and trimellitic anhydride.
P-11-0259 | 6/17/2011 | 6/5/2011 | (G) Polyether polyester polyurethane adhesive.
P-11-0275 | 6/30/2011 | 6/24/2011 | (G) Hydroxy alkyl alkyl acrylate, polymer with alkyl acrylate, aromatic vinyl monomer, dialkyl acrylate and alkyl alkyl acrylate.

If you are interested in information that is not included in these tables, you may contact EPA as described in Unit II. to access additional non-CBI information that may be available.

List of Subjects

Environmental protection, Chemicals, Hazardous substances, Imports, Notice of commencement, Premanufacturer, Reporting and recordkeeping requirements, Test marketing exemptions.

Dated: September 7, 2011.
Chandler Sirmons,
Acting Director, Information Management Division, Office of Pollution Prevention and Toxics.

[FR Doc. 2011-23814 Filed 9-15-11; 8:45 am]

BILLING CODE 6560-50-P